DEPARTMENT OF ENERGY

Federal Energy Regulatory Commission

[Docket No. RP02-411-001]

Chandeleur Pipe Line Company; Notice of Compliance Filing

November 15, 2002.

Take notice that on November 12, 2002, Chandeleur Pipe Line Company (Chandeleur) tendered for filing as part of its FERC Gas Tariff, Second Revised Volume No. 1, the revised tariff sheets listed below to become effective October 1, 2002:

Substitute Fourth Revised Sheet No. 3

Substitute Fifth Revised Sheet No. 18

Substitute Third Revised Sheet No. 18A

Substitute Sixth Revised Sheet No. 19

Substitute Seventh Revised Sheet No. 19A

Substitute Second Revised Sheet No. 19A.01

Substitute Second Revised Sheet No. 19A.02

Substitute Seventh Revised Sheet No. 19B

Substitute Fourth Revised Sheet No. 19C

Substitute Fourth Revised Sheet No. 31

1st Rev Original Sheet No. 31A 1st Rev Third Revised Sheet No. 32

1st Rev Original Sheet No. 32A

Original Sheet No. 47B

Substitute Original Sheet No. 52B

Substitute Original Sheet No. 56A

Fourth Revised Sheet No. 65

Second Revised Sheet No. 65A

Second Revised Sheet No. 67A

Fourth Revised Sheet No. 68

Substitute Sixth Revised Sheet No. 69A

Chandeleur asserts that the purpose of this filing is to comply with the Commission's directives in Docket No. RP02-411-000, issued on September 27, 2002.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Linwood A. Watson, Jr.,
Deputy Secretary.

[FR Doc. 02-29724 Filed 11-20-02; 8:45 am]

BILLING CODE 6717-01-P